FEDERAL COMMUNICATIONS COMMISSION

47 CFR Part 73

[MB Docket No. 21-125; RM-11892; DA 22-91; FR ID 70015]

Television Broadcasting Services Hazard, Kentucky

AGENCY: Federal Communications Commission.

ACTION: Final rule.

SUMMARY: On September 22, 2021, the Media Bureau, Video Division (Bureau) issued a Notice of Proposed Rulemaking (NPRM) in response to a petition for rulemaking filed by Gray Television Licensee, LLC (Petitioner), the licensee of WYMT, channel 12, Hazard, Kentucky, requesting the substitution of channel 20 for channel 12 at Hazard in the Table of Allotments. For the reasons set forth in the Report and Order referenced below, the Bureau amends Federal Communications Commission (FCC) regulations to substitute channel 20 for channel 12 at Hazard.

DATES: Effective February 3, 2022.

FOR FURTHER INFORMATION CONTACT: Joyce Bernstein, Media Bureau, at (202) 418-1647 or Joyce Bernstein@fcc.gov.

SUPPLEMENTARY INFORMATION: The proposed rule was published at 86 FR 54416 on October 1, 2021. The Petitioner filed comments in support of the petition reaffirming its commitment to apply for channel 20. In support of its channel substitution request, the Petitioner states that the Commission has recognized the deleterious effects manmade noise has on the reception of digital VHF signals, and that the propagation characteristics of these channels allow undesired signals and noise to be receivable at relatively farther distances compared to UHF channels, and also allow nearby electrical devices to cause interference. While the proposed channel 20 facility is predicted to result in loss of service to 15,460 persons, all but approximately 100 of those persons would continue to receive service from at least five other television stations, and no persons would receive service from fewer than four other television stations. The Commission is generally most concerned where there is a loss of an area's only network or non-commercial educational (NCE) TV service, or where the loss area results in an area becoming less than well-served, i.e., served by fewer than five full-power over-the-air signals. As a result, the loss area will continue to remain well-served and the number of persons that will receive less than five signals (approximately 100 persons) is considered to be de minimis.

This is a synopsis of the Commission's Report and Order, MB Docket No. 21-125; RM-11892; DA 22-91, adopted January 27, 2022, and released January 27, 2022. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of the Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(j), amend the Table of Allotments, under Kentucky, by revising the entry for Hazard to read as follows:

§ 73.622 Digital television table of allotments.

* * * * *

(j) * * *

Community | Channel No.
* * * * *
KENTUCKY
* * * * *
Hazard | 20, * 33.
* * * * *

[FR Doc. 2022-02213 Filed 2-2-22; 8:45 am]

BILLING CODE 6712-01-P